NUCLEAR REGULATORY COMMISSION

[NRC-2017-0205]

Instructions for Recording and Reporting Occupational Radiation Dose Data

AGENCY: Nuclear Regulatory Commission.

ACTION: Draft regulatory guide; request for comment.

SUMMARY: The U.S. Nuclear Regulatory Commission (NRC) is issuing for public comment draft regulatory guide (DG), DG-8056, “Instructions for Recording and Reporting Occupational Radiation Dose Data.” This DG is a proposed Revision 4 to Regulatory Guide (RG) 8.7 of the same name. The DG addresses issues that were identified after Revision 3 was issued in December 2016. The DG reinstates the long-standing staff position concerning a licensee's consideration of prior occupational dose when making prospective occupational dose monitoring determinations. The DG retains the guidance from Revision 3 on completing NRC Form 4, “Cumulative Occupational Dose History,” and NRC Form 5, “Occupational Dose Record for a Monitoring Period.”

DATES: Submit comments by December 15, 2017. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods:

• Federal Rulemaking Web site: Go to http://www.regulations.gov and search for Docket ID NRC-2017-0205. Address questions about NRC dockets to Carol Gallagher; telephone: 301-415-3463; email: Carol.Gallagher@nrc.gov. For technical questions, contact the individuals listed in the FOR FURTHER INFORMATION CONTACT section of this document.

• Mail comments to: May Ma, Office of Administration, Mail Stop: OWFN-2-A13, U.S. Nuclear Regulatory Commission, Washington, DC 20555-0001.

For additional direction on obtaining information and submitting comments, see “Obtaining Information and Submitting Comments” in the SUPPLEMENTARY INFORMATION section of this document.

FOR FURTHER INFORMATION CONTACT: Terry Brock, telephone: 301-415-1793; email: Terry.Brock@nrc.gov or Harriet Karagiannis, telephone: 301-415-2493; email: Harriet.Karagiannis@nrc.gov. Both are staff of the Office of Nuclear Regulatory Research, U.S. Nuclear Regulatory Commission, Washington, DC 20555-0001.

SUPPLEMENTARY INFORMATION:

I. Obtaining Information and Submitting Comments

A. Obtaining Information

Please refer to Docket ID NRC-2017-0205 when contacting the NRC about the availability of information regarding this action. You may obtain publically-available information related to this action, by any of the following methods:

• Federal Rulemaking Web site: Go to http://www.regulations.gov and search for Docket ID NRC-2017-0205.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. DG-8056 is electronically available in ADAMS under Accession No. ML17144A182.

• NRC's PDR: You may examine and purchase copies of public documents at the NRC's PDR, Room O1-F21, One White Flint North, 11555 Rockville Pike, Rockville, Maryland 20852.

B. Submitting Comments

Please include Docket ID NRC-2017-0205 in your comment submission. The NRC cautions you not to include identifying or contact information that you do not want to be publicly disclosed in your comment submission. The NRC posts all comment submissions at http://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a DG in the NRC's “Regulatory Guide” series. This series was developed to describe and make available to the public information regarding methods that are acceptable to the NRC staff for implementing specific parts of the NRC's regulations, techniques that the staff uses in evaluating specific issues or postulated events, and data that the staff needs in its review of applications for permits and licenses.

The NRC staff is issuing DG-8056 for public comment to address issues identified by the NRC staff and other stakeholders subsequent to the issuance of RG 8.7, Revision 3 in December 2016. Revision 3 was issued as a draft (with a temporary identification of DG-8030) for public comment on August 28, 2015 (80 FR 52345) under ADAMS Accession No. ML15169A218. The public comment period for Revision 3 closed on October 27, 2015. The NRC received one set of comments from an industry association. Those comments and the NRC staff's responses are available under ADAMS Accession No. ML16060A392. The NRC issued Revision 3 in its final form on December 8, 2016 (81 FR 88710). The final version of Revision 3, however, modified a staff position regarding the consideration of prior occupational dose, and whether that should be a factor in licensee occupational monitoring determinations in accordance with 10 CFR 20.1502.

After issuing Revision 3, the Nuclear Energy Institute (NEI) submitted a letter to NRC stating that Revision 3 requires licensees to consider exposures received by employees during prior employment at a different facility when determining whether monitoring is required pursuant to section 10 CFR 20.1502, which was a change in agency position from: (1) The staff position that was in both Revisions 1 and 2 of Regulatory Guide 8.7, (2) the staff position that is in Regulatory Guide 8.34, and (3) over two decades of industry practice developed in accordance with these staff positions.

In response, the NRC staff reassessed the requirements in 10 CFR part 20 and concluded that another revision to RG 8.7 was warranted. This revision contains essentially the staff position as set forth in Revisions 1 and 2 of RG 8.7. However, the staff is not rescinding Revision 3 because it allows a more conservative option for those licensees who want to consider prior occupational dose when making 10 CFR 20.1502 determinations. DG-8056 retains clarifying changes made in Revision 3.

III. Use of NRC Forms 4 and 5

DG-8056 references NRC Form 4, “Cumulative Occupational Dose History (04-2015),” or its electronic equivalent, which is available for use by NRC licensees to record an individual's cumulative occupational dose history.

DG-8056 also references NRC Form 5, “Occupational Dose Record for a Monitoring Period (04-2015),” or its electronic equivalent, which is available for use by NRC licensees to record the occupational dose for any monitoring period beginning on or after January 1, 2016. As noted in the December 8, 2016 Federal Register notice for Revision 3, all NRC licensees should have begun using the updated NRC Form 5, “Occupational Dose Record for a Monitoring Period (04-2015),” or its equivalent, for any monitoring period beginning on or after January 1, 2017. Both forms are available online through the NRC Library on the NRC's public Web site at http://www.nrc.gov/reading-rm/doc-collections.

IV. Backfitting

This DG addresses compliance with the NRC's requirements in 10 CFR part 20 to record and report an individual's cumulative occupational dose history and the occupational dose received by an individual for a specific monitoring period. The NRC regards these requirements as constituting information collection and reporting requirements. The NRC has long taken the position that information collection and reporting requirements are not subject to the NRC's backfitting and issue finality regulations in 10 CFR 50.109, 10 CFR 70.76, 10 CFR 72.62, 10 CFR 76.76, and 10 CFR part 52 (e.g., “Material Control and Accounting Methods,” December 23, 2002 (67 FR 78130); and “Regulatory Improvements to the Nuclear Materials Management and Safeguards System,” June 9, 2008 (73 FR 32453)). Therefore, the NRC has determined that its backfitting and issue finality regulations would not apply to this DG, if ultimately issued as a RG, because the DG does not include any provisions within the scope of matters covered by the backfitting provisions in 10 CFR parts 50, 70, 72, or 76, or the issue finality provisions of 10 CFR part 52.

Dated at Rockville, Maryland, this 10th day of October 2017.
For the Nuclear Regulatory Commission.
Thomas H. Boyce,
Chief, Regulatory Guidance and Generic Issues Branch, Division of Engineering, Office of Nuclear Regulatory Research.

[FR Doc. 2017-22289 Filed 10-13-17; 8:45 am]

BILLING CODE 7590-01-P